DEPARTMENT OF THE INTERIOR

Bureau of Land Management

[LLMTC02000-L14300000.ET0000; MTM 102716]

Public Land Order No. 7813; Withdrawal Modification and Transfer of Administrative Jurisdiction; Montana

AGENCY: Bureau of Land Management, Interior.

ACTION: Public Land Order.

SUMMARY: This order partially modifies Public Land Order No. 1843 by decreasing it by 5.16 acres of land located within the Custer National Forest. This land was originally withdrawn on behalf of the U.S. Forest Service for the Fort Howes Administrative Site. This order returns administrative jurisdiction of this 5.16 acres to the Bureau of Land Management for the construction, operation, and protection of a wildland fire suppression facility. The Bureau of Land Management will be the primary agency with responsibility and liability for the uses and activities on the land.

DATES: Effective Date: April 26, 2013.

FOR FURTHER INFORMATION CONTACT: Pam Wall, Bureau of Land Management, Miles City Field Office, 406-233-2846, pwall@blm.gov or Deborah Sorg, Bureau of Land Management, Montana State Office at 406-896-5045, dsorg@blm.gov. Persons who use a telecommunications device for the deaf (TDD) may call the Federal Information Relay Service (FIRS) at 1-800-877-8339 to contact either of the above individuals. The FIRS is available 24 hours a day, 7 days a week, to leave a message or question with either of the above individuals. You will receive a reply during normal business hours.

SUPPLEMENTARY INFORMATION: The wildland fire suppression facility occupies land within the U.S. Forest Service Fort Howes Administrative Site withdrawal in the Custer National Forest. The Bureau of Land Management will have primary responsibility and liability for the uses and activities on the land.

Order

By virtue of the authority vested in the Secretary of the Interior by Section 204 of the Federal Land Policy and Management Act of 1976, 43 U.S.C. 1714, it is ordered as follows:

Public Land Order No. 1843 (24 FR 3729 (1959)), which withdrew 1,929.63 acres of public lands in the Custer National Forest and reserved them for use of the U.S. Forest Service, Department of Agriculture, as administrative sites, recreation areas, public service sites, and other public purposes, is hereby partially modified to return administrative jurisdiction of 5.16 acres from the U.S. Forest Service to the Bureau of Land Management for the following described land:

Principal Meridian, Montana

T. 6 S., R. 45 E., section 24, and T. 6 S., R. 46 E., section 19, being more particularly described as follows:

Commencing at the E¼ section corner of section 24, T. 6 S., R. 45 E., Principal Meridian Montana; thence S. 18°50′00″ E., 317.36 feet to a ⅝ in. rebar with a plastic cap at the point of beginning; thence N. 76°54′06″ W., 405.51 feet to a ⅝ in. rebar with a plastic cap; thence N. 41°06′39″ W., 128.12 feet to a ⅝ in. rebar with a plastic cap; thence N. 6°31′31” E., 56.77 feet to a ⅝ in. rebar with a plastic cap; thence N. 28°24′35” E., 138.99 feet to a ⅝ in. rebar with a plastic cap; thence N. 48°56′30” E., 326.99 feet to a ⅝ in. rebar with a plastic cap; thence S. 76°44′47′ E., 263.17 feet to a ⅝ in. rebar with a plastic cap; thence S. 10°26′26″ W., 530.30 feet to the point of beginning.

The area described contains 5.16 acres in Powder River County.

The land will continue to be withdrawn from all forms of appropriation under the public land laws, including the United States mining laws, but not from leasing under the mineral leasing laws. The Bureau of Land Management will be the primary agency with responsibility and liability for the uses and activities on the land.

Dated: April 15, 2013.
Rhea S. Suh,
Assistant Secretary—Policy, Management and Budget.

[FR Doc. 2013-09924 Filed 4-25-13; 8:45 am]

BILLING CODE 4310-DN-P